FEDERAL ELECTION COMMISSION

Sunshine Act Notices

Date and Time: Thursday, November 30, 2006 at 10 a.m.

Place: 999 E Street, NW., Washington, DC (Ninth Floor).

Status: This meeting will be open to the public.

Items to Be Discussed:

Correction and Approval of Minutes.

Best Efforts Notice of Proposed Rulemaking.

Best Efforts Policy Statement.

Policy Statement on Probable Cause Hearings.

Sua Sponte Policy.

Management and Administrative Matters.

Person to Contact for Information: Mr. Robert Biersack, Press Officer, Telephone: (202) 694-1220.

Mary W. Dove,
Secretary of the Commission.

[FR Doc. 06-9418 Filed 11-22-06; 11:14 am]

BILLING CODE 6715-01-M